OFFICE OF THE UNITED STATES TRADE REPRESENTATIVE

Notice of the Second United States-Mexico-Canada Agreement Environment Committee Meeting

AGENCY: Office of the United States Trade Representative.

ACTION: Notice of meeting and request for comments.

SUMMARY: The Parties to the United States-Mexico-Canada Agreement (USMCA) intend to hold the second meeting of the Environment Committee (Committee) on September 23, 2022. Following the government-to-government Committee meeting, the Committee will hold a virtual public session. The Office of the United States Trade Representative (USTR) will accept comments on suggestions for topics to be discussed during the Committee meeting, and questions for the public session.

DATES: September 9, 2022, at 11:59 p.m. ET: Deadline for written comments on suggestions for the Committee meeting topics and questions for the public session. September 23, 2022, 5:30-7:00 p.m. ET: The Parties will host a virtual public session of the Committee.

ADDRESSES: Submit written comments to Judith Webster, Director for Environment and Natural Resources, by email at judith.a.webster@ustr.eop.gov with the subject line `USMCA Environment Committee Meeting'.

FOR FURTHER INFORMATION CONTACT: Judith Webster, Director for Environment and Natural Resources, at judith.a.webster@ustr.eop.gov, or 202-881-7318.

SUPPLEMENTARY INFORMATION:

I. Background

Article 24.26 of the USMCA establishes an Environment Committee composed of senior government representatives. The Committee oversees implementation of Chapter 24, the Environment Chapter, and provides a forum to discuss and review the implementation of the Chapter. The USMCA requires the Committee to meet within one year of the date of entry into force of the USMCA and every two years thereafter unless the Committee agrees otherwise. The Committee met on June 17, 2021, and agreed to hold a second meeting in 2022. All decisions and reports of the Committee will be made publicly available, unless the Committee decides otherwise. The Committee will provide for public input on matters relevant to the Committee's work, as appropriate, and hold a public session at each meeting.

II. Committee Meeting

On September 23, 2022, the Committee will meet in a government-to-government session to (1) review implementation of the Environment Chapter, and discuss how the Parties are meeting their Chapter obligations; and (2) receive a presentation from the Commission on Environmental Cooperation (CEC) Secretariat on cooperation and public Submissions for Enforcement Matters (SEMs). This session will not be open to the public.

III. Public Session on Environment Chapter Implementation

Following the government-to-government session, the Committee invites all interested persons to attend a virtual public session on USMCA Environment Chapter implementation. At the session, the Committee will welcome questions, input, and information concerning implementation of the Chapter obligations. The Committee will cover questions raised in comments submitted to USTR, and through a live chat function overseen by a moderator. Prior to the meeting, details on how to access the public session will be made available on USTR's website at https://ustr.gov/issue-areas/environment.

IV. Comments

USTR invites all interested persons to submit comments on topics and issues for the United States government to consider as it prepares for the Committee meeting, and specific questions for the public session. Participation in the public session is not limited to questions submitted through comments in advance of the session. As noted, during the public session, you will be able to ask questions through a chat function overseen by a moderator. When preparing comments, we encourage submitters to refer to USMCA Chapter 24, which is available at https://ustr.gov/sites/default/files/IssueAreas/Environment/USMCA_Environment_Chapter_24.pdf).

Amanda Mayhew,
Deputy Assistant U.S. Trade Representative for Environment and Natural Resources, Office of the United States Trade Representative.

[FR Doc. 2022-18824 Filed 8-30-22; 8:45 am]

BILLING CODE 3290-F2-P